DEPARTMENT OF COMMERCE

International Trade Administration

Agency Information Collection Activities; Submission to the Office of Management and Budget (OMB) for Review and Approval; Comment Request; SelectUSA Client Intake Survey

AGENCY: International Trade Administration, SelectUSA, Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before June 27, 2023.

ADDRESSES: Interested persons are invited to submit written comments via email to FDIResearch@trade.gov. Do not submit Confidential Business Information or otherwise sensitive or protected information.

FOR FURTHER INFORMATION CONTACT: Requests for additional information or specific questions related to collection activities should be directed to Leo Kim at (202) 989-5979 or leo.kim@trade.gov or FDIResearch@trade.gov.

SUPPLEMENTARY INFORMATION:

I. Abstract

SelectUSA, within the International Trade Administration, provides programs and services that focus on facilitating job-creating business investment into the United States and raising awareness of the critical role that economic development plays in the U.S. economy. These programs include information products, services, and trade events to potential foreign investors into the United States and to U.S.-based economic development organizations. To accomplish its mission effectively, SelectUSA requires detailed information from clients in order to provide resources and services that meet each specific client's needs. This information collection item allows ITA to solicit clients' interest for the use of ITA products, services, and trade events. To promote optimal use and effective response to client needs through ITA services and programs, we are requesting approval for this clearance package. Upon approval by OMB, ITA will use the approved information collection to collect client input by the use of multiple data collection methods, including Comment Cards (i.e., transactional-based surveys), web-enabled surveys sent via email, telephone interviews, automated telephone surveys, and in-person surveys via mobile devices/laptops/tablets at trade events/shows. The use of these multiple data collection methods is suggested solely to reduce the public burden in responding to requests for input. Without this information, ITA is unable to systematically determine the actual and relative levels of user needs for its programs and products/services and to provide clear, actionable insights for client use. This information will be used for strategic planning, allocation of resources, and stakeholder reporting.

II. Method of Collection

The International Trade Administration is seeking approval for the following data collection methods to provide flexibility in conducting customer intake surveys and to reduce the burden on respondents: (1) an email message delivering a hot link to a web enabled survey with an email reminder sent if the client does not respond to the survey within two weeks; (2) a telephone survey/interview; and (3) a web-enabled survey conducted in-person at trade shows/events via a laptop, tablet or mobile phone so participants can immediately respond without having to provide their email address.

III. Data

OMB Control Number: 0625-XXXX.

Form Number(s): None.

Type of Review: New information collection.

Affected Public: Business or other for-profit organizations; Not-for-profit institutions; State, Local, or Tribal government; and Federal government.

Estimated Number of Respondents: 200.

Estimated Time Per Response: 30 minutes.

Estimated Total Annual Burden Hours: 100 hours.

Estimated Total Annual Cost to Public: $50,000.

Respondent's Obligation: Voluntary.

Legal Authority: Public Law 15 U.S.C. et seq. and 15 U.S.C. 171 et seq.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-08954 Filed 4-27-23; 8:45 am]

BILLING CODE 3510-DS-P